NUCLEAR REGULATORY COMMISSION

[NRC-2010-0180]

Notice of Availability of Draft NUREG-1800, Revision 2; “Standard Review Plan for Review of License Renewal Applications for Nuclear Power Plants” and Draft NUREG-1801, Revision 2; “Generic Aging Lessons Learned (GALL) Report”

AGENCY: Nuclear Regulatory Commission (NRC).

ACTION: Issuance of draft NUREG-1800, “Standard Review Plan for Review of License Renewal Applications for Nuclear Power Plants ”and draft NUREG-1801, “Generic Aging Lessons Learned (GALL) Report” for public comment; and announcement of public workshop.

SUMMARY: The NRC staff is issuing drafts of the revised NUREG-1800, “Standard Review Plan for Review of License Renewal Applications for Nuclear Power Plants” (SRP-LR); and the revised NUREG-1801, “Generic Aging Lessons Learned (GALL) Report” for public comment. These revised documents describe methods acceptable to the NRC staff for implementing the license renewal rule, Title 10, Code of Federal Regulations Part 54 (10 CFR Part 54), as well as techniques used by the NRC staff in evaluating applications for license renewals. These draft documents supersede the preliminary draft documents that were publicly announced and placed on NRC's Web site at http://www.nrc.gov/reactors/operating/licensing/renewal/guidance/updated-guidance.html on December 23, 2009.

The NRC is also announcing a public workshop to facilitate gathering public comments on the drafts of these revised documents. The NRC is especially interested in stakeholder comments that will improve the safety, effectiveness, and efficiency of the license renewal process. There are situations where the draft GALL Report, Revision 2 includes changes that have been previously issued for public comments as part of the staff's license renewal Interim Staff Guidance (ISG) process. In particular, the Aging Management Program (AMP) XI.M40, “Monitoring of Neutron Absorbing Materials Other Than Boraflex” and related Aging Management Review (AMR) line items were processed by ISG LR-ISG-2009-01. Public comments were elicited on the proposed AMP XI.M40 by 74 FRN 62829 dated December 1, 2009. Public comments were received, evaluated by the staff, and the proposed AMP XI.M40, and AMR line items, were revised as determined necessary by the staff. Because the staff has previously sought and received public comments on draft AMP XI.M40, the staff is not seeking further comments on this AMP as part of this Federal Register Notice (FRN). AMP XI.M40, and related AMR line items, are considered final by the staff. They have been included in the draft GALL Report, Revision 2 for completeness.

DATES: Comments should be submitted on the draft SRP-LR and the draft GALL Report, accompanied by supporting data, by July 2, 2010. Comments received after this date will be considered, if it is practical to do so, but the NRC staff is able to assure consideration only for comments received on or before this date. A public workshop is planned to be held on May 26-28, 2010, at NRC's headquarters and is announced on the NRC's Web site at http://www.nrc.gov/public-involve/public-meetings/index.cfm.

ADDRESSES: You may submit comments by any one of the following methods. Please include Docket ID NRC-2010-0180 in the subject line of your comments on the draft SRP-LR or the draft GALL Report or both. Comments submitted in writing or in electronic form will be posted on the NRC Web site and on the Federal rulemaking Web site Regulations.Gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for the draft SRP-LR and the draft GALL Report filed under Docket ID NRC-2010-0180. Address questions about NRC dockets to Carol Gallagher 301-492-3668; e-mail Carol.Gallagher@nrc.gov.

Mail comments to: Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied, for a fee, publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The draft SRP-LR, Revision 2, is under ADAMS Accession Number ML101320099. The draft GALL Report, Revision 2, is available under ADAMS Accession Number ML101320104.

FOR FURTHER INFORMATION CONTACT: Mr. Robert Gramm, License Renewal Project Manager, Office of Nuclear Reactor Regulation, Mail Stop O-11F1, U.S. Nuclear Regulatory Commission, Washington, DC 20555-0001, Telephone (301) 415-1010, or e-mail Robert.Gramm@nrc.gov.

SUPPLEMENTARY INFORMATION:

Draft Standard Review Plan for License Renewal, Revision 2

The NRC staff proposes to revise the September 2005 version of NUREG-1800, “Standard Review Plan for Review of License Renewal Applications for Nuclear Power Plants” (SRP-LR). The SRP-LR provides the guidance to NRC staff reviewers in performing safety reviews of applications to renew licenses of nuclear power plants in accordance with the license renewal rule. The draft SRP-LR is being revised to incorporate lessons learned from the review of the recent license renewal applications, as well as to make changes corresponding to the update of the GALL Report. The draft SRP-LR contains four major chapters: (1) Administrative Information; (2) Scoping and Screening Methodology for Identifying Structures and Components Subject to Aging Management Review, and Implementation Results; (3) Aging Management Review Results; and (4) Time-Limited Aging Analyses. In addition, three Branch Technical Positions are in an Appendix to the draft SRP-LR.

Draft Generic Aging Lessons Learned Report, Revision 2

The draft Generic Aging Lessons Learned (GALL) Report, Revision 2, is an update to the September 2005 version. The NRC staff held a public workshop on January 4-7, 2010 to invite early public participation in the development of license renewal guidance documents. The NRC staff made selected chapters of an early draft GALL Report publicly available prior to the public workshop. Prior to the public workshop, the Nuclear Energy Institute (NEI) submitted significant industry comments on the GALL Report, Revision 1. During preparation of the draft GALL Report, Revision 2, the staff considered these and other comments generated since the publication of Rev. 1. The adequacy of the generic aging management programs in managing certain aging effects for particular structures and components are evaluated based on the review of the following ten program elements: (1) Scope of program, (2) preventive actions, (3) parameters monitored or inspected, (4) detection of aging effects, (5) monitoring and trending, (6) acceptance criteria, (7) corrective actions, (8) confirmation process, (9) administrative controls, and (10) operating experience. The GALL Report is a technical basis document for the SRP-LR and should be treated in the same manner as an approved topical report that is applicable generically.

Solicitation of Comments

The comments should include supporting justification in enough detail for the NRC staff to evaluate the need for changes in guidance, as well as references to the operating experience, industry standards, or other relevant reference materials that provide a sound technical basis for such changes. The NRC is also interested in comments that will improve the clarity of the documents so that the improved guidance will provide a stable and predictable evaluation standard for future renewal applications. Editorial and style comments are not necessary because we expect that the guidance documents will need to be reformatted and edited before they are issued in final form.

There are situations where the draft GALL Report, Revision 2 includes changes that have been previously issued for public comments as part of the staff's license renewal Interim Staff Guidance (ISG) process. In particular, the Aging Management Program (AMP) XI.M40, “Monitoring of Neutron Absorbing Materials Other Than Boraflex” and related Aging Management Review (AMR) line items were processed by ISG LR-ISG-2009-01. Public comments were elicited on the proposed AMP XI.M40 by 74 FRN 62829, dated December 1, 2009. Public comments were received, evaluated by the staff, and the proposed AMP XI.M40, and AMR line items, were revised as determined necessary by the staff. Because the staff has previously sought and received public comments on draft AMP XI.M40, the staff is not seeking further comments on this AMP as part of this FRN. AMP XI.M40, and related AMR line items, are considered final by the staff. They have been included in the draft GALL Report, Revision 2 for completeness.

Public Workshop

A public workshop is scheduled during the public comment period. Scheduled for May 26-28, 2010, this workshop will be held in Room T-2B3 at TWFN, the NRC headquarters. The formal meeting notice is available at http://www.nrc.gov/public-involve/public-meetings/index.cfm. It is anticipated that the workshop will provide the participants an opportunity to obtain further information, to ask questions, to make comments to add to the discussion, or otherwise to facilitate the public in formulating and preparing written comments for NRC staff consideration on these revised license renewal guidance documents.

Dated at Rockville, Maryland, this 12th day of May 2010.
For the Nuclear Regulatory Commission.
Samson Lee,
Deputy Director, Division of License Renewal, Office of Nuclear Reactor Regulation.

[FR Doc. 2010-11841 Filed 5-17-10; 8:45 am]

BILLING CODE 7590-01-P